Proclamation 7264 of January 11, 2000

Establishment of the California Coastal National Monument

By the President of the United States of America

A Proclamation

The islands, rocks, and pinnacles of the California Coastal National Monument overwhelm the viewer, as white-capped waves crash into the vertical cliffs or deeply crevassed surge channels and frothy water empties back into the ocean. Amidst that beauty lies irreplaceable scientific values vital to protecting the fragile ecosystems of the California coastline. At land's end, the islands, rocks, exposed reefs, and pinnacles off the coast above mean high tide provide havens for significant populations of sea mammals and birds. They are part of a narrow and important flight lane in the Pacific Flyway, providing essential habitat for feeding, perching, nesting, and shelter.

The California Coastal National Monument is a biological treasure. The thousands of islands, rocks, exposed reefs, and pinnacles are part of the nearshore ocean zone that begins just off shore and ends at the boundary between the continental shelf and continental slope. Waters of this zone are rich in nutrients from upwelling currents and freshwater inflows, supporting a rich array of habitats and organisms. Productive oceanographic factors, such as major ocean currents, stimulate critical biological productivity and diversity in both nearshore and offshore ocean waters.

The monument contains many geologic formations that provide unique habitat for biota. Wave action exerts a strong influence on habitat distribution within the monument. Beaches occur where wave action is light, boulder fields occur in areas of greater wave activity, and rocky outcroppings occur where wave action is greatest. The pounding surf within boulder fields and rocky shores often creates small, but important, habitats known as tidepools, which support creatures uniquely adapted for survival under such extreme physical conditions. Although shoreline habitats may appear distinct from those off shore, they are dependent upon each other, with vital and dynamic exchange of nutrients and organisms being essential to maintaining their healthy ecosystems. As part of California's nearshore ocean zone, the monument is rich in biodiversity and holds many species of scientific interest that can be particularly sensitive to disturbance.

The monument's vegetative character varies greatly. Larger rocks and islands contain diverse growth. Dudleya, Atriplex-Baeria-Rumex, mixed grass-herb, Polypodium, Distichlis, ice plant, Synthyris-Poppy, Eymus, Poa-Baeria, chaparral, and wetlands vegetation are all present. Larger rocks and islands contain a diverse blend of the vegetation types.

The monument provides feeding and nesting habitat for an estimated 200,000 breeding seabirds. Development on the mainland has forced seabirds that once fed and nested in the shoreline ecosystem to retreat to the areas protected by the monument. Pelagic seabird species inhabit salt or brackish water environments for at least part of their annual cycle and breed on offshore islands and rocks. Gulls, the endangered California least tern, the threatened brown pelican, and the snowy plover, among countless others, all feed on the vegetation and establish their nests in the monument. Both bald eagles and peregrine falcons are found within the monument.

The monument also provides forage and breeding habitat for several mammal species. Pinnipeds are abundant, including the threatened southern sea otter and the Guadalupe fur seal. The monument contains important shelter for male California sea lions in the winter and breeding rookeries for threatened northern (Steller) sea lions in the spring.

Section 2 of the Act of June 8, 1906 (34 Stat. 225, 16 U.S.C. 431) authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the California Coastal National Monument:

NOW, THEREFORE, I, WILLIAM J. CLINTON, President of the United States of America, by the authority vested in me by section 2 of the Act of June 8, 1906 (34 Stat. 225, 16 U.S.C. 431), do proclaim that there are hereby set apart and reserved as the California Coastal National Monument, for the purpose of protecting the objects identified above, all unappropriated or unreserved lands and interests in lands owned or controlled by the United States in the form of islands, rocks, exposed reefs, and pinnacles above mean high tide within 12 nautical miles of the shoreline of the State of California. The Federal land and interests in land reserved are encompassed in the entire 840 mile Pacific coastline, which is the smallest area compatible with the proper care and management of the objects to be protected.

The establishment of this monument is subject to valid existing rights.

All Federal lands and interests in lands within the boundaries of this monument are hereby appropriated and withdrawn from all forms of entry, location, selection, sale, leasing, or other disposition under the public land laws, including but not limited to withdrawal from location, entry, and patent under the mining laws, and from disposition under all laws relating to mineral and geothermal leasing, other than by exchange that furthers the protective purposes of the monument. Lands and interests in lands within the proposed monument not owned by the United States shall be reserved as a part of the monument upon acquisition of title thereto by the United States.

The Secretary of the Interior shall manage the monument through the Bureau of Land Management, pursuant to applicable legal authorities, to implement the purposes of this proclamation.

Nothing in this proclamation shall be deemed to revoke any existing withdrawal, reservation, or appropriation; however, the national monument shall be the dominant reservation.

Nothing in this proclamation shall enlarge or diminish the jurisdiction or authority of the State of California or the United States over submerged or other lands within the territorial waters off the coast of California.

Nothing in this proclamation shall affect the rights or obligations of any State or Federal oil or gas lessee within the territorial waters off the California coast.

Warning is hereby given to all unauthorized persons not to appropriate, injure, destroy, or remove any feature of this monument and not to locate or settle upon any of the lands thereof.

IN WITNESS WHEREOF, I have hereunto set my hand this eleventh day of January, in the year of our Lord two thousand, and of the Independence of the United States of America the two hundred and twenty-fourth.

wj

[FR Doc. 00-1295

Filed 1-14-00; 10:45 am]

Billing code 3195-01-P